DEPARTMENT OF THE INTERIOR

Bureau of Land Management

[BLM_NV_FRN_MO4540000292; NVNV106391927]

Proposed Withdrawal and Public Meeting for the Amargosa Valley, Nevada

AGENCY: Bureau of Land Management, Interior.

ACTION: Notice of proposed withdrawal.

SUMMARY: The Secretary of the Interior proposes to withdraw 308,890 acres of Federal lands located in Nye County, Nevada, from location and entry under the United States mining laws, and from leasing under the mineral and geothermal leasing laws, for 20 years, subject to valid existing rights. The area also includes approximately 40,000 acres, more or less, of non-Federal lands that would be subject to the withdrawal if they are subsequently acquired by the United States. The purpose of the proposed withdrawal is to protect the cultural, recreational, and biological resources of these lands. Publication of this notice temporarily segregates the lands for up to 2 years from location and entry under the United States mining laws and leasing under the mineral and geothermal leasing laws, subject to valid existing rights. The lands will remain open to disposal under the mineral materials laws. This notice initiates a 90-day public comment period and announces a public meeting on the proposed withdrawal, including input related to ongoing mining activities for sepiolite, saponite, and bentonite within the study area related to projected development of valid existing rights.

DATES: All Comments must be received by April 15, 2025.

The BLM will hold a Public Meeting on the withdrawal proposal on February 27, 2025, at 5:30 p.m. Pacific time at the Amargosa Community Center located at 1640 E. Amargosa Farm Road, Amargosa Valley, NV 89020.

ADDRESSES: All comments should be submitted to the BLM Pahrump Field Manager, Bureau of Land Management, Pahrump Field Office, Attn: Amargosa Withdrawal, 4701 North Torrey Pines Drive, Las Vegas, NV 89130, or via email at blm_nv_sndo_amargosa@blm.gov. The BLM will not consider comments via telephone calls.

FOR FURTHER INFORMATION CONTACT: Nicholas B. Pay, Field Manager, Pahrump Field Office at (702) 515-5042, or you may contact the BLM office at the address listed in the ADDRESSES section. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The purpose of the proposed withdrawal is to protect the cultural, recreational, and biological resources of the lands proposed for withdrawal. The proposed withdrawal includes the federal lands within the area described below in Nye County, Nevada:

Mount Diablo Meridian, Nevada

Tps. 14 thru 17 S., R. 48 E., partly unsurveyed, those portions lying southwesterly of the centerline of U.S. Highway No. 95.

Tps. 15 thru 18 S., Rs. 49 and 50 E., those portions lying southwesterly of the centerline of U.S. Highway No. 95.

T. 19 S., R. 50 E.

Tps. 15 thru 18 S., R. 51 E., partly unsurveyed, those portions lying southwesterly of the centerline of U.S. Highway No. 95.

T. 19 S., R. 51 E.,

Secs. 1 thru 18.

T. 16 S., R. 52 E.,

Secs. 7 thru 10, secs. 15 thru 22, and secs 27 thru 34, those portions lying southwesterly of the centerline of U.S. Highway No. 95.

T. 17 S., R. 52 E.,

Secs. 3 thru 10, secs. 15 thru 22, and secs. 26 thru 35.

T. 18 S., R. 52 E.,

Secs. 2 thru 10, secs 15 thru 21, and secs. 29 thru 32.

T. 19 S., R. 52 E.,

Secs. 5 thru 8 and secs. 17 and 18.

San Bernadino Meridian, Nevada

T. 25 N., R. 7 E.,

Secs. 4, 5, and 6.

T. 26 N., R. 7 E.,

Sec. 31.

The area described, including both Federal and non-Federal land, contains 308,890 acres, more or less, as derived from Bureau of Land Management GIS data. No part of this description shall be construed to impact surface rights to non-Federal land or existing valid claims to Federal subsurface mineral estate.

Non-Federal lands included in the description above would be subject to the proposed withdrawal only if they are subsequently acquired by the United States.

The Secretary of the Interior approved the BLM's petition. Therefore, the petition/application constitutes a withdrawal proposal of the Secretary of the Interior (43 CFR 2310.1-3(e)).

The use of a right-of-way, interagency agreement, or cooperative agreement would not adequately constrain non-discretionary uses and would not provide adequate protection for the cultural, recreational, and biological resources in this area.

No additional water rights would be needed to fulfill the purpose of the proposed withdrawal.

There are no suitable alternative sites as the described lands contain the resource values to be protected.

Records relating to the withdrawal proposal may be examined by contacting the BLM at the address and phone number provided above in this notice.

For a 90-day period from the date of publication of this notice in the Federal Register, all persons who wish to submit comments in connection with the proposed withdrawal may present their views in writing to the address or email above, including comments or input related to on-going mining activities for sepiolite, saponite, and bentonite within the proposed withdrawal area related to projected development of valid existing rights. Information regarding the proposed withdrawal will be available for public review at the BLM's Southern Nevada District Office, during regular business hours, 8:00 a.m. to 4:30 p.m. Monday through Friday, except federal holidays.

Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives of officials of organizations or businesses, will be made available for public inspection in their entirety.

Notice is hereby given that the BLM will hold a Public Meeting on February 27, 2025, at 5:30 p.m. Pacific time at the Amargosa Community Center located at 1640 East Amargosa Farm Road, Amargosa Valley, Nevada 89020.

For a period until January 15, 2027, the Federal lands described in this notice will be segregated from location and entry under the United States mining laws and from leasing under the mineral or geothermal leasing laws, subject to valid existing rights, unless the application is denied or canceled, or the withdrawal is approved prior to that date.

Licenses, permits, cooperative agreements, or discretionary land use authorizations of a temporary nature that will not significantly impact the values to be protected by the proposed withdrawal may be allowed with the approval of the authorized officer of the BLM during the temporary segregation period.

The withdrawal proposal will be processed in accordance with the regulations set forth in 43 CFR 2300.

(Authority: 43 U.S.C. 1714)

Jon K. Raby,
State Director.

[FR Doc. 2025-00700 Filed 1-14-25; 8:45 am]

BILLING CODE 4331-21-P